DEPARTMENT OF THE INTERIOR

Fish and Wildlife Service

50 CFR Part 16

RIN 1018-AG70

Injurious Wildlife Species; Black Carp (Mylopharyngodon piceus); Extension of Comment Period

AGENCY: Fish and Wildlife Service, Interior.

ACTION: Proposed rule; extension of comment period.

SUMMARY: We, the U.S. Fish and Wildlife Service, extend the comment period on a proposed rule to add all forms of live black carp (Mylopharyngodon piceus), including gametes and viable eggs, to the list of injurious fish under the Lacey Act and on the draft environmental assessment and draft economic analysis prepared in association with the proposed rule.

DATES: Comments must be submitted on or before December 16, 2005.

ADDRESSES: The analyses are available from the Chief, Division of Environmental Quality, U.S. Fish and Wildlife Service, 4401 North Fairfax Drive, Mail Stop 322, Arlington, Virginia 22203; FAX (703) 358-1800. They also are available on our Web page at http://contaminants.fws.gov/Issues/InvasiveSpecies.cfm. Comments may be hand-delivered, mailed, or sent by fax to the address listed above. Alternatively, you may send comments by electronic mail (e-mail) to: BlackCarp@fws.gov. See the Public Comments Solicited section below for file format and other information about electronic filing.

FOR FURTHER INFORMATION CONTACT: Erin Williams, Division of Environmental Quality, Branch of Invasive Species, at (703) 358-2034 or erin_williams@fws.gov.

SUPPLEMENTARY INFORMATION:

Background

In February 2000, we were petitioned to list black carp as an injurious wildlife species under the Lacey Act (18 U.S.C. 42). On July 30, 2002 (67 FR 49280), we published a proposed rule in the Federal Register to add all forms (diploid and triploid) of live black carp to the list of injurious fish, mollusks, and crustaceans under the Lacey Act. The comment period on the proposed rule closed on September 30, 2002. On June 4, 2003 (68 FR 33431), we reopened the comment period until August 4, 2003. We received 103 comments during the first two comment periods.

On August 30, 2005 (70 FR 51326), we announced the availability for public comment of a draft environmental assessment and draft economic analysis for the proposed rule and reopened the comment period on the proposed rule. The purpose of the draft environmental assessment is to evaluate three alternatives associated with the proposed rule; the purpose of the draft economic analysis is to analyze the potential economic impact if the proposed rule were adopted as published. The comment period on the proposed rule, draft environmental assessment, and draft economic analysis is set to close October 31, 2005.

Because of requests received from the public, we are hereby extending the comment period until December 16, 2005. As stated in the August 30, 2005, Federal Register document, we are particularly interested in data and comments on alternatively listing the diploid (fertile) form only. Please refer to that document for further information. Comments already submitted on the proposed rule need not be resubmitted as they will be fully considered in our decisionmaking.

Public Comments Solicited

Submit data and comments as identified in ADDRESSES. If you submit documentation by e-mail, please submit it as an ASCII file format and avoid the use of special characters and encryption. Please include “Attn: [RIN 1018-AG70]” in your e-mail subject line and your name and return address in your e-mail message. If you do not receive a confirmation from the system that we have received your e-mail message, contact us directly by calling our office at telephone number 703-358-2148 during normal business hours. Please note that this e-mail address will be closed at the termination of the public comment period.

Authority: 18 U.S.C. 42.

Dated: October 19, 2005.
Paul Hoffman,
Acting Assistant Secretary for Fish and Wildlife and Parks.

[FR Doc. 05-21440 Filed 10-26-05; 8:45 am]

BILLING CODE 4310-55-P